DEPARTMENT OF AGRICULTURE

Rural Housing Service

Notice of Funds Availability for the Section 533 Housing Preservation Grants for Fiscal Year 2013

AGENCY: Rural Housing Service, USDA.

ACTION: Notice; correction

SUMMARY: The Rural Housing Service published a document in the Federal Register on June 18, 2013, announcing that it is soliciting competitive applications under its Housing Preservation Grant program. The funding available for the Housing Preservation Grant was incorrectly identified in the notice.

FOR FURTHER INFORMATION CONTACT: Bonnie Edwards-Jackson, Finance and Loan Analyst, Multi-Family Housing Preservation and Direct Loan Division, USDA Rural Development, Stop 0781, 1400 Independence Avenue SW., Washington, DC, 20250-0781, telephone (202) 690-0759 (voice) (this is not a toll free number) or (800) 877-8339 (TDD-Federal Information Relay Service) or via email at, Bonnie.Edwards@wdc.usda.gov.

Correction

In the Federal Register of June 18, 2013, in FR Doc. 2010-14400, on page, 36510, in the second column, the listing for the award information should read:

For Fiscal Year 2013, $3,803,461.25 is available for the HPG Program. Rural Economic Area Partnership Zones and other funds will be distributed under a formula allocation to states pursuant to 7 CFR part 1940, subpart L, “Methodology and Formulas for Allocation of Loan and Grant Program Funds.” Decisions on funding will be based on pre-application scores. Anyone interested in submitting an application for funding under this program is encouraged to consult the Rural Development Web site periodically for updated information regarding the status of funding authorized for this program.

Correction

In the Federal Register of June 18, 2013, in FR Doc. 2010-14400, on page, 36514, in the second column, the listing for the Rural Development Vermont State Office, address to contact should read:

Vermont State Office, 87 State Street, Suite 324, P. O. Box 249, Montpelier, VT 05601, (802) 828-6028, TDD (802) 223-6365, Tammy Surprise.

Correction

In the Federal Register of June 18, 2013, in FR Doc. 2010-14400, on page, 36514, in the third column, the listing for the Rural Development West Virginia State Office, address to contact should read:

West Virginia State Office, 2118 Ripley Road, Ripley, West Virginia 25271, (304) 372-3441, ext. 105, TDD (304) 284-4836, Penny Thaxton.

Dated: July 30, 2013.
Tammye Treviño,
Administrator, Rural Housing Service.

[FR Doc. 2013-19777 Filed 8-13-13; 8:45 am]

BILLING CODE 3410-XV-P